DEPARTMENT OF HEALTH AND HUMAN SERVICES

Centers for Disease Control and Prevention

Disease, Disability, and Injury Prevention and Control Special Emphasis Panel (SEP): RFA DD 10-002 Public Health Research on Spina Bifida, RFA DD 10-003 Public Health Research on Children and Adults Living With Spina Bifida, RFA DD 10-004 Developing a Prospective Assessment of the Development, Health, and Condition Progression in Young Children With Spina Bifida,and RFA DP 10-006 Epidemiologic Study of Inflammatory Bowel Disease, Initial Review

In accordance with Section 10(a)(2) of the Federal Advisory Committee Act (Pub. L. 92-463), the Centers for Disease Control and Prevention (CDC) announces the aforementioned meeting:

Time and Date: 9 a.m.-4 p.m., April 15, 2010 (Closed)

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of “RFA DD 10-002 Public Health Research on Spina Bifida, RFA DD 10-003 Public Health Research on Children and Adults Living with Spina Bifida, RFA DD 10-004 Developing a Prospective Assessment of the Development, Health, and Condition Progression in Young Children with Spina Bifida, and RFA DP 10-006 Epidemiologic Study of Inflammatory Bowel Disease.”

Contact Person for More Information: Donald Blackman, Ph.D., Scientific Review Officer, National Center for Chronic Disease Prevention and Health Promotion, Office of the Director, Extramural Research Program Office, 4770 Buford Highway, NE., Mailstop K-92, Atlanta, GA 30341, Telephone: (770) 488-3023, Email: DBY7@cdc.gov.

The Director, Management Analysis and Services Office, has been delegated the authority to sign Federal Register notices pertaining to announcements of meetings and other committee management activities, for both CDC and the Agency for Toxic Substances and Disease Registry.

Dated: March 12, 2010.
Elaine L. Baker,
Director, Management Analysis and Services Office, Centers for Disease Control and Prevention.

[FR Doc. 2010-6178 Filed 3-23-10; 8:45 am]

BILLING CODE 4163-18-P